DEPARTMENT OF LABOR

Employment And Training Administration

[TA-W-56,018]

Alphatech, Inc, Fletcher, NC; Notice of Termination of Investigation.

Pursuant to Section 221 of the Trade Act of 1974, as amended, an investigation was initiated on November 17, 2004 in response to a worker petition filed by a company official on behalf of workers at AlphaTech, Inc., Fletcher, North Carolina.

The petitioner has requested that the petition be withdrawn. Consequently, the investigation has been terminated.

Signed at Washington, DC this 3rd day of December, 2004.
Linda G. Poole,
Certifying Officer, Division of Trade Adjustment Assistance.

[FR Doc. E4-3775 Filed 12-21-04; 8:45 am]

BILLING CODE 4510-30-P